DEPARTMENT OF ENERGY

Federal Energy Regulatory Commission

[Docket No. CP05-408-000]

Texas Eastern Transmission, LP; Notice of Application

September 8, 2005.

Take notice that on September 1, 2005, Texas Eastern Transmission, LP (Texas Eastern), 5400 Westheimer Court, Houston, Texas 77056-5310, filed in Docket No. CP05-408-000, an application pursuant to section 7 of the Natural Gas Act and Part 157 of the regulations of the Federal Energy Regulatory Commission, for an order authorizing Texas Eastern to lease 103,500 dekatherms per day (Dth/d) of capacity on the East Texas Access Area (ETX) Zone of Texas Eastern's interstate natural gas transmission system between the Primary Point of Receipt near Beckville, Texas, and the Primary Point of Delivery near Sharon, Louisiana, to Texas Gas Transmission, LLC. Texas Eastern also expedited treatment of the Application by issuing an order no later than October 6, 2005, all as more fully set forth in the application which is on file with the Commission and open to public inspection. This filing may be also viewed on the Web at http://www.ferc.gov using the “eLibrary” link. Enter the docket number excluding the last three digits in the docket number field to access the document. For assistance, call (866) 208-3676 or TTY, (202) 502-8659.

Any questions regarding this application may be directed to, Steven E. Tillman, General Manager, Regulatory Affairs, Texas Eastern Transmission, LP, P.O. Box 1642, Houston, Texas 77251-1642 by Telephone: (713) 627-5113 or Facsimile: (713) 627-5947.

There are two ways to become involved in the Commission's review of this project. First, any person wishing to obtain legal status by becoming a party to the proceedings for this project should, before the comment date of this notice, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's web site under the “e-Filing” link.

Comment Date: September 19, 2005.

Magalie R. Salas,
Secretary.

[FR Doc. E5-5064 Filed 9-15-05; 8:45 am]

BILLING CODE 6717-01-P